DEPARTMENT OF ENERGY

Federal Energy Regulatory Commission

[Docket No. RP99-513-005]

Questar Pipeline Company; Notice of Tariff Filing

June 9, 2000.

Take notice that on June 5, 2000, Questar Pipeline Company's (Questar) FERC Gas Tariff, Questar filed a tariff filing to implement a negotiated-rate contract as authorized by Commission orders issued October 27, 1999, and December 14, 1999, in Docket Nos. RP99-513, et al. The Commission approved Questar's request to implement a negotiated-rate option for Rate Schedules T-1, NNT, T-2, PKS, FSS and ISS shippers. Questar submitted its negotiated-rate filing in accordance with the Commission's Policy Statement in Docket Nos. RM95-6-000 and RM96-7-000 (Policy Statement) issued January 31, 1996.

Questar states that the tendered tariff sheet revises Questar's Tariff to implement a new negotiated-rate transportation service agreement between Questar and Enserco Energy, Inc. Questar requested waiver of 18 CFR 154.207 so that the tendered tariff sheet may become effective June 6, 2000.

Questar states that copies of this filing has been served upon Questar's customers, the Public Service commission of Utah and the Public Service Commission of Wyoming.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-15097 Filed 6-14-00; 8:45 am]

BILLING CODE 6717-01-M